DEPARTMENT OF VETERANS AFFAIRS

Advisory Committee on Homeless Veterans; Notice of Meeting

The Department of Veterans Affairs (VA) gives notice under Public Law 92-463 (Federal Advisory Committee Act) that a meeting of the Advisory Committee on Homeless Veterans will be held on October 16-17, 2007 in Pavillion B at the Four Points by Sheraton Hotel San Diego, 8110 Aero Drive, San Diego, California. On October 16 the session will convene at 8 a.m. and end at 4 p.m., and on October 17 the session will convene at 8 a.m. and end at 12 noon. The meeting is open to the public.

The purpose of the Committee is to provide the Secretary of Veterans Affairs with an on-going assessment of the effectiveness of the policies, organizational structures, and services of the Department in assisting homeless veterans. The Committee shall assemble and review information relating to the needs of homeless veterans and provide advice on the most appropriate means of offering assistance to homeless veterans. The Committee will make recommendations to the Secretary regarding such activities.

On October 16, 2007, the Committee will review the responses to the Advisory Committee on Homeless Veterans 2007 report and receive information and reports from the Department of Veterans Affairs and other federal departments.

On October 17, 2007 the Committee will continue to receive reports and begin preparation of its upcoming annual report and recommendations to the Secretary.

Those wishing to attend the meeting should contact Mr. Peter Dougherty, Department of Veterans Affairs, at (202) 273-5764. No time will be allocated during the meeting for receiving oral presentations from the public. However, the Committee will accept written comments from interested parties on issue affecting homeless veterans. Such comments should be referred to the Committee at the following address: Advisory Committee on Homeless Veterans, Homeless Veterans Programs Office (075D), U.S. Department of Veterans Affairs, 810 Vermont Avenue, NW., Washington, DC 20420.

Dated: September 24, 2007.
By Direction of the Secretary.
E. Philip Riggin,
Committee Management Officer.

[FR Doc. 07-4825 Filed 9-28-07; 8:45 am]

BILLING CODE 8320-01-M